DEPARTMENT OF DEFENSE

GENERAL SERVICES ADMINISTRATION

NATIONAL AERONAUTICS AND SPACE ADMINISTRATION

48 CFR Chapter 1

[Docket No. FAR 2014-0051, Sequence No. 1]

Federal Acquisition Regulation; Federal Acquisition Circular 2005-73; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2005-73. A companion document, the Small Entity Compliance Guide (SECG), follows this FAC. The FAC, including the SECG, is available via the Internet at http://www.regulations.gov.

DATES: For effective dates and comment dates see separate documents, which follow.

FOR FURTHER INFORMATION CONTACT: The analyst whose name appears in the table below in relation to the FAR case. Please cite FAC 2005-73 and the specific FAR case number. For information pertaining to status or publication schedules, contact the Regulatory Secretariat at 202-501-4755.

Rules Listed in FAC 2005-73
Item | Subject | FAR Case | Analyst
I | Positive Law Codification of Title 41 | 2011-018 | Chambers
II | Technical Amendments |  |

SUPPLEMENTARY INFORMATION: Summaries for each FAR rule follow. For the actual revisions and/or amendments made by these rules, refer to the specific item numbers and subjects set forth in the documents following these item summaries. FAC 2005-73 amends the FAR as specified below:

Item I—Positive Law Codification of Title 41 (FAR Case 2011-018)

This final rule amends the Federal Acquisition Regulation (FAR) to conform references throughout the FAR to the new Positive Law Codification of Title 41, United States Code, “Public Contracts” and other conforming changes. The new codification of Title 41 was enacted on January 4, 2011, under Public Law 111-350. Additionally, the rule completes the implementation of the recodification of Title 40. The codifications reorganized and renumbered the statutes, but did not change the meaning or legal effect.

A table at FAR 1.110 provides the popular names of Acts, the present statutory citation, and the new titles of the statutes. For example the “Service Contract Act of 1965” is now the “Service Contract Labor Standards statute”.

The rule does not have a significant effect beyond the internal operating procedures of the Government, and consequently does not have a significant cost or administrative impact on entities either large or small.

Item II—Technical Amendments

Editorial changes are made at FAR 9.105-2, 9.203, 11.201, 52.203-17, 52.208-8, 52.211-2, and 52.212-1.

Dated: April 11, 2014.
William Clark,
Acting Director, Office of Government-wide Acquisition Policy, Office of Acquisition Policy, Office of Government-wide Policy.

Federal Acquisition Circular (FAC) 2005-73 is issued under the authority of the Secretary of Defense, the Administrator of General Services, and the Administrator for the National Aeronautics and Space Administration.

Unless otherwise specified, all Federal Acquisition Regulation (FAR) and other directive material contained in FAC 2005-73 is effective April 29, 2014 except for items I, which is effective May 29, 2014.

Dated: April 8, 2014.
Amy G. Williams,
Deputy Director, Defense Acquisition Regulations Council, Defense Procurement and Acquisition Policy.
Dated: April 11, 2014.
Jeffrey Koses,
Senior Procurement Executive/Deputy CAO, Office of Acquisition Policy, U.S. General Services Administration.
Dated: April 7, 2014.
William P. McNally,
Assistant Administrator for Procurement, National Aeronautics and Space Administration.

[FR Doc. 2014-08743 Filed 4-28-14; 8:45 am]

BILLING CODE 6820-EP-P